DEPARTMENT OF HEALTH AND HUMAN SERVICES

Centers for Disease Control and Prevention

[30Day-20-0255]

Agency Forms Undergoing Paperwork Reduction Act Review

In accordance with the Paperwork Reduction Act of 1995, the Centers for Disease Control and Prevention (CDC) has submitted the information collection request titled “Resources and Services Database of the CDC National Prevention Information Network (NPIN)” to the Office of Management and Budget (OMB) for review and approval. CDC previously published a “Proposed Data Collection Submitted for Public Comment and Recommendations” notice on July 5, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Resources and Services Database of the CDC National Prevention Information Network (NPIN) (OMB Control No. 0920-0255, Exp. 02/29/2020)—Revision—National Center for HIV/AIDS, Viral Hepatitis, Sexually Transmitted Diseases, and Tuberculosis Prevention (NCHHSTP), Centers for Disease Control and Prevention (CDC).

Background and Brief Description

NCHHSTP has the primary responsibility within the CDC and the U.S. Public Health Service for the prevention and control of HIV infection, viral hepatitis, sexually transmitted diseases (STDs), and tuberculosis (TB), as well as for community-based HIV prevention activities, syphilis, and TB elimination programs. This request is for a revision and three-year approval of a currently approved data collection under the Paperwork Reduction Act. This data collection is currently approved under OMB Control No. 0920-0255. The purpose of this data collection is to assist the public by providing information about resources.

The National Prevention Information Network (NPIN) serves as the U.S. reference, referral, and distribution service for information on HIV/AIDS, viral hepatitis, STDs, and TB, supporting NCHHSTP's mission to link Americans to prevention, education, and care services. If NPIN does not continue this information collection and verification project, the potential number of resource listings will be significantly reduced, and the accuracy and currency of the existing records will be greatly diminished. The NPIN Resources and Services Database contains entries on approximately 10,000 organizations and is the most comprehensive listing of HIV/AIDS, viral hepatitis, STD, and TB resources and services available throughout the country. The American public can access the NPIN resources and Services database through the NPIN website. More than 1,000,000 unique visitors and more than 3,000,000 page views are recorded annually.

Information for this request will be collected using the Resources and Services Questionnaire. Organizations with access to the internet will be given the option to complete and submit an electronic version of the questionnaire by visiting the NPIN website. Methods to be used to collect the information include online, telephone and email survey questionnaires to collect information from representatives of the organizations that provide covered services. In comparison to the previously approved collection, the NPIN questionnaire is collecting the same information, but the format of the NPIN online questionnaire was modified to decrease free text. This serves to improve the time needed to complete the form. To accomplish CDC's goal of continuing efforts to maintain an up-to-date, comprehensive database, NPIN plans each year to add up to 400 newly identified organizations and verify those organizations currently described in the NPIN Resources and Services Database each year. Updates to the NPIN resources and services questionnaire reduced the total burden hours by 33% when compared to the previous OMB clearance. This data collection uses no inferential statistical methods. The data collected is in textual or anecdotal format and will be used for information purposes. There are no costs to respondents other than their time. The total burden is 1,144 hours.

Estimated Annualized Burden Hours
Form | Respondents | Number of respondents | Number of responses per respondent | Average burden per response (in hours)
Initial Questionnaire Telephone Script | Registered nurses, Social and community service managers, and Health educators | 400 | 1 | 8/60
Telephone Verification | Registered nurses, Social and community service managers, and Health educators Social and human service assistants | 6,100 | 1 | 6/60
Email Verification | Registered nurses, Health educators, and Social and human service assistants, social and community service managers | 3,600 | 1 | 8/60

Jeffrey M. Zirger,
Lead, Information Collection Review Office, Office of Scientific Integrity, Office of Science, Centers for Disease Control and Prevention.

[FR Doc. 2019-24001 Filed 11-1-19; 8:45 am]

BILLING CODE 4163-18-P